DEPARTMENT OF THE TREASURY

Office of Thrift Supervision

Submission for OMB Review; Comment Request

May 10, 2001.

The Office of Thrift Supervision (OTS) has submitted the following public information collection requirement(s) to OMB for review and clearance under the Paperwork Reduction Act of 1995, Public Law 104-13. Interested persons may obtain a copy of the submission by calling the Acting OTS Clearance Officer listed. Send comments regarding this information collection to the OMB reviewer listed and to the Acting OTS Clearance Officer, Information Collection Comments, Chief Counsel's Office, Office of Thrift Supervision, 1700 G Street, NW., Washington, DC 20552, FAX Number (202) 906-6518, or e-mail to: infocollection.comments@ots.treas.gov.

DATES: Submit written comments on or before June 15, 2001.

OMB Number: 1550-0030.

Form Number: OTS Forms 1344 and 1561.

Type of Review: Renewal.

Title: Application for Issuance of Subordinated Debt Securities/Notice for Issuance of Subordinated Debt or Mandatorily Redeemable Preferred Stock.

Description: The information provided to OTS issued to determine if the proposed issuance of securities will benefit the thrift institution or create an unreasonable risk to the Savings Association Insurance Fund (SAIF).

Respondents: Savings and Loan Associations and Savings Banks.

Estimated Number of Responses:

Type of information collection | Number of respondents | Number of responses per respondent | Hours per response | Annual totals
Application | 1 | 1 | 60 | 60
Notice | 6 | 1 | 42 | 252

Estimated Burden Hours Per Response: See chart above.

Frequency of Response: 1 per year.

Estimated Total Reporting Burden: 312.

Acting Clearance Officer: Sally W. Watts, (202) 906-7380, Office of Thrift Supervision, 1700 Street, NW., Washington, DC 20552.

OMB Reviewer: Alexander Hunt, (202) 395-7860, Office of Management and Budget, Room 10202, New Executive Office Building, Washington, DC 20503.

Deborah Dakin,
Deputy Chief Counsel, Regulations & Legislation Division.

[FR Doc. 01-12383 Filed 5-15-01; 8:45 am]

BILLING CODE 6720-01-P